NATIONAL ARCHIVES AND RECORDS ADMINISTRATION

[NARA-2013-039]

Agency Information Collection Activities: Proposed Collection; Comment Request

AGENCY: National Archives and Records Administration (NARA).

ACTION: Notice.

SUMMARY: NARA is giving public notice that the agency proposes to request use of two forms to obtain authorization from customers of the Office of Government Information Services (OGIS) to make inquiries on their behalf and to release information and records related to their Freedom of Information Act/Privacy Act requests/appeals. The public is invited to comment on the proposed information collection pursuant to the Paperwork Reduction Act of 1995.

DATES: Written comments must be received on or before September 27, 2013 to be assured of consideration.

ADDRESSES: Comments should be sent to: Paperwork Reduction Act Comments (ISSD), Room 4400, National Archives and Records Administration, 8601 Adelphi Rd, College Park, MD 20740-6001; or faxed to 301-713-7409; or electronically mailed to tamee.fechhelm@nara.gov.

FOR FURTHER INFORMATION CONTACT: Requests for additional information or copies of the proposed information collection and supporting statement should be directed to Tamee Fechhelm at telephone number 301-837-1694, or fax number 301-713-7409.

SUPPLEMENTARY INFORMATION: Pursuant to the Paperwork Reduction Act of 1995 (Pub. L. 104-13), NARA invites the general public and other Federal agencies to comment on proposed information collections. The comments and suggestions should address one or more of the following points: (a) whether the proposed information collection is necessary for the proper performance of the functions of NARA; (b) the accuracy of NARA's estimate of the burden of the proposed information collection; (c) ways to enhance the quality, utility, and clarity of the information to be collected; and (d) ways to minimize the burden of the collection of information on respondents, including the use of information technology; and (e) whether small businesses are affected by this collection. The comments that are submitted will be summarized and included in the NARA request for Office of Management and Budget (OMB) approval. All comments will become a matter of public record. In this notice, NARA is soliciting comments concerning the following information collection:

Title: Freedom of Information Act (FOIA) Request for Assistance and Consent.

OMB number: 3095-0068.

Agency form number: NA Forms 10003 and 10004.

Type of review: Regular.

Affected public: Individuals or households, Business or other for-profit, Not-for-profit institutions, and Federal Government.

Estimated number of respondents: 600.

Estimated time per response: 1 minute.

Frequency of response: On occasion.

Estimated total annual burden hours: 10 hours.

Abstract: In order to fulfill its government-wide statutory mission, OGIS provides varying types of assistance to its customers, which requires communicating with government departments and agencies regarding the customer's FOIA/Privacy Act request/appeal. Handling requests for OGIS assistance must conform to the legal requirements of the Freedom of Information Act (FOIA) and the Privacy Act of 1974. Authority for the requirements set forth in these forms is also contained in 5 U.S.C. 552a(b). OGIS will use the information submitted in the proposed forms to provide the requested assistance. Without the information submitted in these forms, OGIS would be unable to fulfill its mission.

Dated: July 15, 2013.
Michael L. Wash,
Executive for Information Services/CIO.

[FR Doc. 2013-18150 Filed 7-26-13; 8:45 am]

BILLING CODE 7515-01-P